FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements (202) 523-5793 or tradeanalysis@fmc.gov).

Agreement No.: 201170-001.

Title: The Los Angeles and Long Beach Port Infrastructure and Environmental Programs Cooperative Working Agreement.

Parties: Port of Los Angeles and Port of Long Beach.

Filing Party: C. Jonathan Benner, Esq.; Troutman Sanders, LLP; 401 9th Street, Suite 1000; Washington, DC 20004-2134.

Synopsis: The agreement would lay out in additional detail the areas in which the Ports have agreed to discuss and cooperate to improve environmental, safety and security objectives, particularly their respective Clean Truck Programs. The parties request expedited review.

By Order of the Federal Maritime Commission.
Dated: August 5, 2008.
Karen V. Gregory,
Assistant Secretary.

[FR Doc. E8-18381 Filed 8-7-08; 8:45 am]

BILLING CODE 6730-01-P